DEPARTMENT OF COMMERCE

International Trade Administration

Initiation of Antidumping and Countervailing Duty Administrative Reviews and Requests for Revocation in Part

AGENCY: Import Administration, International Trade Administration, Department of Commerce.

ACTION: Notice of initiation of antidumping and countervailing duty administrative reviews and requests for revocation in part.

SUMMARY: The Department of Commerce (the Department) has received requests to conduct administrative reviews of various antidumping and countervailing duty orders and findings with July anniversary dates. In accordance with the Department's regulations, we are initiating those administrative reviews. The Department also received requests to revoke two antidumping duty orders in part.

EFFECTIVE DATE: September 6, 2000.

FOR FURTHER INFORMATION CONTACT: Holly A. Kuga, Office of AD/CVD Enforcement, Import Administration, International Trade Administration, U.S. Department of Commerce, 14th Street and Constitution Avenue, N.W., Washington, D.C. 20230, telephone: (202) 482-4737.

SUPPLEMENTARY INFORMATION:

Background

The Department has received timely requests, in accordance with 19 CFR 351.213(b)(2000), for administrative reviews of various antidumping and countervailing duty orders and findings with July anniversary dates. The Department also received timely requests to revoke in part the antidumping duty orders on Silicon Metal from Brazil and Certain Pasta from Italy.

Initiation of Reviews

In accordance with 19 CFR 351.221(c)(1)(i), we are initiating administrative reviews of the following antidumping and countervailing duty orders and findings. We intend to issue the final results of these reviews not later than July 31, 2001.

| Period to be reviewed
Antidumping Duty Proceedings
Brazil: Silicon Metal | 7/1/99-6/30/00
A-351-806:
Companhia Brasileira Carbureto De Calcio
Companhia Ferroligas Minas Gerais-Minasligas
Ligas de Aluminia S.A.
Rima Industrial S.A.
Chile: Fresh Atlantic Salmon | 7/1/99-6/30/00
A-337-803:
Acuicultura de Aquas Australes
Agromar Ltda.
Aguas Claras S.A.
Antarfish S.A.
Aquachile S.A.
Aquasur Fisheries Ltda.
Asesoria Acuicola S.A.
Australis S.A.
Best Salmon
Cenculmavique
Centro de Cultivo de Moluscos
Cerro Farrellon Ltda.
Chisal S.A.
Comercializadora Smoltech Ltda.
Complejo Piscicola Coyhaique
Cultivadora de Salmones Linao Ltda.
Cultivos Marinos Chiloe Ltda.
Cultivos San Juan
Cultivos Yardan S.A.
Empresa Nichiro Chile Ltda.
Fiordo Blanco S.A.
Fisher Farms
Fitz Roy S.A.
Friosur S.A.
Ganadera Del Mar
G.M. Tornagaleones S.A.
Hiuto Salmones S.A.
Huitosal Mares Australes Salmo Pac.
Instituto Tecnologico Del Salmon S.A.
Inversiones Pacific Star Ltda.
Invertec Pesquera Mar de Chiloe Ltda.
Manao Bay Fishery S.A.
Mardim Ltda.
Ocean Horizons Chile S.A.
Pacific Mariculture
Patagonia Fish Farming S.A.
Patagonia Salmon Farming S.A.
Pesca Chile S.A.
Pesquera Antares S.A.
Pesquera Chiloe S.A.
Pesquera Eicosal Ltda.
Pesquera Friosur S.A.
Pesquera Los Fiordos Ltda.
Pesquera Mares Australes Ltda.
Pesquera Mares de Chile S.A.
Pesquera Pacific Star
Pesquera Quellon Ltda.
Pesquera Y Comercial Rio Peulla S.A.
Piscicola Entre Rios S.A.
Piscicultura Iculpe
Piscicultura La Cascada
Piscultura Santa Margarita
Prosmolt S.A.
Quetro S.A.
River Salmon S.A.
Robinson Crusoe Y Cia. Ltda.
Salmoamerica
Salmones Andes S.A.
Salmones Antarctica S.A.
Salmones Aucar Ltda.
Salmones Caicaen S.A.
Salmones Calbuco S.A.
Salmones Chiloe S.A.
Salmones Friosur S.A.
Salmones Huillinco S.A.
Salmones Ice Val Ltda.
Salmones Llanquihue
Salmones Mainstream S.A.
Salmones Multiexport Ltda.
Salmones Pacific Star Ltda.
Salmones Pacifico Sur S.A.
Salmones Quellon
Salmones Ranco Sur Ltda.
Salmones Tecmar S.A.
Salmones Tierra Del Fuego Ltda.
Salmones Unimarc S.A.
Salmosan
Seafine Salmon S.A.
Soc. Alimentos Maritimos Avalon Ltda.
Soc. Aquacultivos Ltda.
Truchas Aguas Blancas Ltda.
Trusal S.A.
Ventisqueros S.A.
France: Stainless Steel Sheet and Strip in Coils | 1/4/99-6/30/00
A-427-814: Ugine S.A.
Germany: Stainless Steel Sheet and Strip in Coils | 1/4/99-6/30/00
A-427-825: Krupp Thyssen Nirosta GmbH
Iran: In-Shell Pistachios | 7/1/99-6/30/00
A-507-502: Rafsanjan Pistachios Producers Cooperative
Italy: Certain Pasta | 7/1/99-6/30/00
A-475-818:
Agritalia, S.r.l.
Arrighi S.p.A. Industrie Alimentari
Audisio Industrie Alimentari de Capitanata, S.p.A.
Barilla G.e.R.F.lli S.p.A.
Commercio-Rappresentanze-Export S.r.l
Delverde, SrL
Di Martino Gaetano E. F.lli s.r.l..
F.lli De Cecco di Filippo Fara S. Martino S.p.A.
Gruppo Agricoltura Sana S.r.l.
Industria Alimentare Colavita, S.p.A.
Indalco
Isola del Grano S.r.l.
Italpast S.p.A.
Italpasta S.r.l.
Industrie Alimentari Molisane S.r.l.
Labor S.r.l.
La Molisana Industrie Alimentari S.p.A.
Liguori
Molino e Pastificio
N. Puglisi & F. Industria Paste Alimentari S.p.A.
Pastificio Antonio Pallante S.r.l.
Pastificio Campano, S.p.A.
Pastificio Guido Ferrara
Pastificio Fabianelli, S.p.A.
Pastificio F.LLI Pagani S.p.A.
Pastificio Maltagliati S.p.A.
Pastificio Riscossa F.lli Mastromauro S.r.l.
P.A.M., S.r.l.—Prodotti Alimentari Meridionali.
Rummo S.p.A. Pastificio e Molino
Tamma Industrie Alinmentari di Capitanata, SrL
Japan: Clad Steel Plate | 7/1/99-6/30/00
A-588-838: Daido Metal Corp.
Japan: Stainless Steel Sheet and Strip in Coils | 1/4/99-6/30/00
A-588-845: Kawasaki Steel Corporation
Mexico: Stainless Steel Sheet and Strip in Coils | 1/4/99-6/30/00
A-201-822: Mexinox S.A. de C.V.
Republic of Korea: Stainless Steel Sheet and Strip in Coils | 1/4/99-6/30/00
A-580-834:
Dai Yang Metal Co., Ltd
Pohang Iron & Steel Co., Ltd.
Sammi Steel co.
Samwon Precision Metals Co., Ltd.
Taiwan: Stainless Steel Sheet and Strip in Coils | 1/4/99-6/30/00
A-583-831:
Ta Chen Stainless Pipe Co., Ltd.
Tung Mung Development Co., Ltd.
Yieh United Steel Corporation
THAILAND: Canned Pineapple | 7/1/99-6/30/00
A-549-813
Dole Food Co.
Kuiburi Fruit Canning Company Limited
Malee Sampran Factory Public Company, Ltd.
The Prachuab Fruit Canning Company
Siam Fruit Canning (1988) Co., Ltd.
Siam Food Products Company Ltd.
Siam Agro Industry Pineapple and Others Co., Ltd.
Thai Pineapple Canning Co., Ltd..
The Thai Pineapple Public Co., Ltd.
Vita Food Factory
The People's Republic of China: Persulfates* | 7/1/99-6/30/00
A-570-847:
Sinochem Jiangsu Wuxi Import & Export Corp.
Shanghai Ai Jian Import & Export Corp.
(*If one of the above named companies does not qualify for a separate rate, all other exporters of persulfates from the People's Republic of China who have not qualified for a separate rate are deemed to be covered by this review as part of the single PRC entity of which the named exporters are a part.)
The People's Republic of China: Sebacic Acid* | 7/1/99-6/30/00
A-570-825:
Guangdong Chemicals Import & Export Corporation
Sinochem Tianjin Impor & Export Corporation*
(*If one of the above named companies does not qualify for a separate rate, all other exporters of sebacic acid from the People's Republic of China who have not qualified for a separate rate are deemed to be covered by this review as part of the single PRC entity of which the named exporters are a part.)
Turkey: Certain Pasta | 7/1/99-6/30/00
A-489-805:
Filiz Gida Sanayi ve Ticaret A.S.
Beslen Makarna Gida Sanayi ve Ticaret A.S.
Beslen Pazariarma Gida Sanayi ve Ticaret A.S.
Maktas Makarnacilik ve Ticaret A.S.
Pastavilla Makarnacilik Sanayi ve Ticaret A.S.
The United Kingdom: Industrial Nitrocellulose | 7/1/99-6/30/00
A-412-803:
Imperial Chemical Industries PLC
Nobel's Explosives Industries PLC
ICI Americas Inc.
Countervailing Duty Proceedings
Italy: Certain Pasta | 1/1/99-12/31/99
C-475-819:
Agritalia, S.r.l.
Arrighi S.p.A. Industrie Alimentari
Audisio Industrie Alimentari de Capitanata, S.p.A.
Commercio-Rappresentanze-Export S.r.l
Delverde, SrL
De Matteis Aroalimetare S.p.A.
Di Martino Gaetano E. F.lli s.r.l..
F.lli De Cecco di Filippo Fara S. Martino S.p.A.
Indalco
Industria Alimentare Colavita, S.p.A.
Isola del Grano S.r.l.
Italpast S.p.A.
Italpasta S.r.l.
Industrie Alimentari Molisane S.r.l.
Labor S.r.l.
La Molisana Industrie Alimentari S.p.A.
Liguori
Molino e Pastificio
N. Puglisi & F. Industria Paste Alimentari S.p.A.
Pastificio Antonio Pallante S.r.l.
Pastificio Campano, S.p.A.
Pastificio Guido Ferrara
Pastificio Fabianelli, S.p.A.
Pastificio F.LLI Pagani S.p.A.
Pastificio Maltagliati S.p.A.
Pastificio Riscossa F.lli Mastromauro S.r.l.
P.A.M., S.r.l.—Prodotti Alimentari Meridionali.
Rummo S.p.A. Pastificio e Molino
Tamma Industrie Alinmentari di Capitanata, SrL
Turkey: Certain Pasta | 1/1/99-12/31/99
C-489-806:
Filiz Gida Sanayi ve Ticaret A.S.
Beslen Makarna Gida Sanayi ve Ticaret A.S.
Beslen Pazariarma Gida Sanayi ve Ticaret A.S.
Maktas Makarnacilik ve Ticaret A.S.
Pastavilla Makarnacilik Sanayi ve Ticaret A.S.
Suspension Agreements
Brazil: Hot-Rolled Flat-Rolled Carbon-Quality Steel Products | 1/1/99-12/31/99
A-351-828:
Companhia Siderurgica Paulista
Usinas Siderurgica de Minas Gerais
Companhia Siderurgica Nacional

During any administrative review covering all or part of a period falling between the first and second or third and fourth anniversary of the publication of an antidumping order under section 351.211 or a determination under section 351.218(f)(4) to continue an order or suspended investigation (after sunset review), the Secretary, if requested by a domestic interested party within 30 days of the date of publication of the notice of initiation of the review, will determine whether antidumping duties have been absorbed by an exporter or producer subject to the review if the subject merchandise is sold in the United States through an importer that is affiliated with such exporter or producer. The request must include the name(s) of the exporter or producer for which the inquiry is requested.

Interested parties must submit applications for disclosure under administrative protective orders in accordance with 19 CFR 351.305.

These initiations and this notice are in accordance with section 751(a) of the Tariff Act of 1930, as amended (19 USC 1675(a)) and 19 CFR 351.221(c)(1)(i).

Dated: August 25, 2000.
Holly A. Kuga,
Acting Deputy Assistant Secretary, Group II, for Import Administration.

[FR Doc. 00-22834 Filed 9-5-00; 8:45 am]

BILLING CODE 3510-DS-P